FEDERAL COMMUNICATIONS COMMISSION

[Report No. 2516]

Petitions for Reconsideration of Action in Rulemaking Proceedings

November 26, 2001.

Petitions for Reconsideration have been filed in the Commission's rulemaking proceedings listed in this Public Notice and published pursuant to 47 CFR section 1.429(e). The full text of this document is available for viewing and copying in Room CY-A257, 445 12th Street, SW., Washington, DC or may be purchased from the Commission's copy contractor, Qualex International (202) 863-2893. Oppositions to these petitions must be filed by December 17, 2001. See section 1.4(b)(1) of the Commission's rules (47 CFR 1.4(b)(1)). Replies to an opposition must be filed within 10 days after the time for filing oppositions has expired.

Subject:

In the Matter of Carriage of the Transmissions of Digital Television Broadcast Stations (CS Docket No. 98-120)

In the Matter of Review of the Commission's Rules and Policies Affecting the Conversion to Digital Television (MM Docket No. 00-39)

Service Rules for the 746-764 and 776-794 MHz Banks, and Revisions to Part 27 of the Commission's Rules (WT Docket No. 99-168)

Magalie Roman Salas,
Secretary.

[FR Doc. 01-29682 Filed 11-29-01; 8:45 am]

BILLING CODE 6712-01-M